DEPARTMENT OF COMMERCE

Patent and Trademark Office

[Docket No.: PTO-C-2024-0054]

Anti-Piracy Symposium

AGENCY: United States Patent and Trademark Office, Commerce.

ACTION: Notice of symposium.

SUMMARY: The United States Patent and Trademark Office (USPTO) seeks to improve intellectual property (IP) enforcement and reduce IP crime and infringement (USPTO 2022-2026 Strategic Plan, Goal 3, Objectives 3.3 and 3.4). As part of this effort, the USPTO will bring interested stakeholders together for an Anti-Piracy Symposium on Thursday, January 23, 2025, held at the USPTO in person and virtually.

DATES: The symposium will be held on Thursday, January 23, 2025, from 9 a.m.-3 p.m. Interested parties wishing to attend the symposium in person must register by Thursday, January 16, 2025. Registration for remote attendance will be available through January 23, 2025.

ADDRESSES: The symposium will be held in person at the USPTO in the Clara Barton Auditorium (South), 600 Dulany Street, Alexandria, Virginia 22314. The symposium will be physically accessible to people with disabilities. Individuals requiring accommodation, such as sign language interpretation or other ancillary aids, should communicate their needs at least seven business days prior to the symposium to Velica Dunn in the USPTO's Office of Policy and International Affairs at 571-272-9300, Velica.Dunn@uspto.gov, or by postal mail addressed to: Mail Stop OPIA, United States Patent and Trademark Office, P.O. Box 1450, Alexandria, VA 22314-1450, ATTN: Velica Dunn. Attendees joining in person should arrive at least a half hour prior to the start of the symposium and must present valid government-issued photo identification upon arrival.

The symposium will also be available in a virtual format for those wishing to attend remotely. Prior to the symposium, information on how to register for in-person and remote attendance will be posted on the Office of Policy and International Affairs (OPIA) section of the USPTO website, https://www.uspto.gov/about-us/organizational-offices/office-policy-and-international-affairs.

FOR FURTHER INFORMATION CONTACT: Holly Lance, USPTO, Office of Policy and International Affairs, at holly.lance@uspto.gov. Please direct media inquiries to the Office of the Chief Communications Officer, USPTO, at 571-272-8400.

SUPPLEMENTARY INFORMATION: The core copyright industries—which include film and television, music, publishing, and video games—employ 9.6 million American workers and account for 3.79% of the entire U.S. workforce. These industries generate $1.8 trillion of value to the U.S. GDP, which is 7.76% of the U.S. economy. See International Intellectual Property Alliance, Copyright Industries in the U.S. Economy, 2022 report, available at https://www.iipa.org/files/uploads/2022/12/IIPA-Report-2022_Interactive_12-12-2022-1.pdf.

Copyright piracy threatens the success of these industries and the Americans they employ, costing the U.S. economy at least $29.2 billion in lost revenue annually and reducing employment in the motion picture and television industry between 230,000 and 560,000 jobs. See David Blackburn, Ph.D., Jeffrey A. Eisenach, Ph.D., David Harrison, Jr., Ph.D., NERA Economic Consulting and the U.S. Chamber of Commerce, Impacts of Digital Video Piracy on the U.S. Economy, June 2019, available at https://www.theglobalipcenter.com/wp-content/uploads/2019/06/Digital-Video-Piracy.pdf.

Digital technologies have shifted the way we consume copyrighted content and have created new opportunities for criminal syndicates to source customers and drive revenue away from lawful owners. At the same time, technologies like artificial intelligence offer a tremendous opportunity to combat piracy and trace the source of unauthorized content.

The USPTO will facilitate a discussion to examine the challenges piracy poses and identify potential solutions.

Interested members of the public are invited to attend the Anti-Piracy Symposium on Thursday, January 23, 2025, from 9 a.m.-3 p.m. The program will include briefings on recent copyright case law, the latest tools and techniques for investigating and addressing copyright piracy, and international copyright piracy updates.

Katherine K. Vidal,
Under Secretary of Commerce for Intellectual Property and Director of the United States Patent and Trademark Office.

[FR Doc. 2024-28133 Filed 12-9-24; 8:45 am]

BILLING CODE 3510-16-P